DEPARTMENT OF HEALTH AND HUMAN SERVICES

National Institutes of Health

Center for Scientific Review; Cancellation of Meeting

Notice is hereby given of the cancellation of the Cell Development and Function 4, February 7, 2002, 8:30 AM to February 8, 2002, 12:00 PM, Georgetown Suites, 1000 29th Street, NW., Washington, DC, 20007 which was published in the Federal Register on January 23, 2002, 67 FR 3221-3223.

The meeting is cancelled due to a quorum problem.

Dated: January 25, 2002.
LaVerne Y. Stringfield,
Director, Office of Federal Advisory Committee Policy.

[FR Doc. 02-2386 Filed 1-31-02; 8:45 am]

BILLING CODE 4140-01-M